DEPARTMENT OF ENERGY

Federal Energy Regulatory Commission

18 CFR Parts 50 and 380

[Docket No. RM06-12-000; Order No. 689]

Regulations for Filing Applications for Permits to Site Interstate Electric Transmission Facilities

Correction

In rule document E6-20001 beginning on page 69440 in the issue of Friday, December 1, 2006, make the following correction:

On page 69440, in the second column, under the DATES heading, in the second line, “February 2, 2007” should read “January 30, 2007”.

[FR Doc. Z6-20001 Filed 12-29-06; 8:45 am]

BILLING CODE 1505-01-D